DEPARTMENT OF ENERGY

Federal Energy Regulatory Commission

[Docket No. CP22-21-000; Docket No. CP22-22-000]

Venture Global CP2 LNG, LLC; Venture Global CP Express, LLC; Notice of Availability of the Final Environmental Impact Statement for the Proposed CP2 LNG and CP Express Projects

The staff of the Federal Energy Regulatory Commission (FERC or Commission) has prepared a final environmental impact statement (EIS) for the CP2 LNG and CP Express Projects (Project), proposed by Venture Global CP2 LNG, LLC (CP2 LNG) and Venture Global CP Express, LLC (CP Express) in the above-referenced docket. CP2 LNG and CP Express request authorizations to construct, install, own, operate, and maintain certain liquefied natural gas (LNG) facilities in Cameron Parish, Louisiana and certain pipeline facilities in Cameron and Calcasieu Parishes, Louisiana and Jasper and Newton Counties, Texas.

The final EIS assesses the potential environmental effects of the construction and operation of the Project in accordance with the requirements of the National Environmental Policy Act (NEPA). The FERC staff concludes that approval of the proposed project, with the mitigation measures recommended in the EIS, would result in some adverse environmental impacts. However, most of these impacts would be less-than-significant, with the exception visual resources, including cumulative visual impacts, and visual impacts on environmental justice communities in the region. Climate change impacts are not characterized in the EIS as significant or insignificant. As part of the analysis, Commission staff developed specific mitigation measures (included in the final EIS as recommendations). Staff recommend that these mitigation measures be attached as conditions to any authorization issued by the Commission.

The U.S. Army Corps of Engineers New Orleans and Galveston Districts, U.S. Department of Energy, U.S. Coast Guard, U.S. Department of Transportation's Pipeline and Hazardous Materials Safety Administration, and National Marine Fisheries Service participated as cooperating agencies in the preparation of the EIS. Cooperating agencies have jurisdiction by law or special expertise with respect to resources potentially affected by the proposal and participate in the NEPA analysis. The U.S. Army Corps of Engineers New Orleans and Galveston Districts will adopt and use the EIS to consider compliance with section 404 of the Clean Water Act of 1972, as amended and section 10 of the Rivers and Harbors Act of 1899. Although the cooperating agencies provided input to the conclusions and recommendations presented in the EIS, the agencies will present their own conclusions and recommendations in their respective Records of Decision for the Project.

The final EIS addresses the potential environmental effects of the construction and operation of the following project facilities:

• a liquefaction plant consisting of 18 liquefaction blocks and ancillary support facilities, each block having a nameplate capacity of about 1.1 million tonnes per annum of LNG;

• six pretreatment systems, each including an amine gas-sweetening unit to remove carbon dioxide (CO2) and a molecular sieve dehydration system to remove water;

• four 200,000 cubic meter aboveground full containment LNG storage tanks with cryogenic pipeline connections to the liquefaction plant and the berthing docks;

• carbon capture and sequestration facilities, including carbon capture equipment within the terminal site as well as a non-jurisdictional CO2 send-out pipeline outside of the terminal site; ¹

¹ CP2 LNG anticipates this pipeline would be installed under the southern portion of the Terminal Site floodwall and terminate at a non-jurisdictional offshore platform in State of Louisiana waters.

• a combined cycle natural gas turbine power plant with a nameplate capacity of 1,470 megawatts;

• two marine LNG loading docks and turning basins and three cryogenic lines for LNG transfer from the storage tanks to the docks;

• administration, control, maintenance, and warehouse buildings and related parking lots;

• 85.4 miles of 48-inch-diameter natural gas pipeline (CP Express Pipeline);

• 6.0 miles of 24-inch-diameter natural gas lateral pipeline connecting to the CP Express Pipeline in northwest Calcasieu Parish (Enable Gulf Run Lateral);

• one 187,000-horsepower natural gas-fired compressor station (Moss Lake Compressor Station);

• six meter stations (five at interconnects with existing pipelines and one at the terminus of the CP Express Pipeline within the Terminal Site); and

• other appurtenant facilities.²

² The LNG terminal would also include the following non-jurisdictional facilities: electrical transmission line and substation, water pipeline, septic system, and stormwater facilities/outfalls.

The Commission mailed a copy of the Notice of Availability to federal, state, and local government representatives and agencies; elected officials; environmental and public interest groups; Native American tribes; potentially affected landowners and other interested individuals and groups; and newspapers and libraries in the project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search), select “General Search”, and enter the docket number in the “Docket Number” field (i.e. CP22-21 or CP22-22). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: July 28, 2023.
Kimberly D. Bose,
Secretary.

[FR Doc. 2023-16632 Filed 8-3-23; 8:45 am]

BILLING CODE 6717-01-P